DEPARTMENT OF ENERGY

Federal Energy Regulatory Commission

[Docket Nos. RP01-623-004, and RP01-622-003 (Not Consolidated)]

Mississippi River Transmission Corporation; Notice of Compliance Filing

June 7, 2002.

Take notice that on May 31, 2002, Mississippi River Transmission Corporation (MRT), tendered for filing to become a part of MRT's FERC Gas Tariff, Third Revised Volume revised tariff sheets, with an effective date of April 1, 2002:

Revised First Revised Substitute Fourth revised Sheet No. 2

Substitute Sixth Revised Sheet No. 2

Second substitute Fifth Revised Sheet No. 74

Substitute Fourth Revised Sheet No. 235

Substitute Original Sheet No. 235A

Second Substitute Sixth Revised Sheet No. 249

Second Substitute First Revised Sheet No. 249A

MRT states that the filing is being made in compliance with the Commission's Order issued May 22, 2002, subject to conditions and to correct previous pagination, hereby submits that filing proposed.

Additionally, MRT requests that the following tariff sheets be removed from the Commission's data base because of their incorrect pagination.

Eighth Revised Sheet No. 2

Seventh Revised Sheet No. 74

MRT states that it has served copies of the filing upon all customers and relevant state regulatory commissions.

Any person desiring to protect said filing should file a protest with the Federal Energy Regulatory Commission, 888 First Street, NE., Washington, DC 20426, in accordance with Section 385.211 of the Commission's Rules an Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket” and follow the instructions (call 202-208-2222 for assistance). Comments protests and interventions may be filed electronically via the Internet in lieu of paper. See, 18 CFR 385.2001(a)(1)(iii) and the instructions on the Commissions web site under the “e-Filing” link.

Linwood A. Watson, Jr.,
Deputy Secretary.

[FR Doc. 02-14933 Filed 6-12-02; 8:45 am]

BILLING CODE 6717-01-M